DEPARTMENT OF HOUSING AND URBAN DEVELOPMENT

[Docket No. FR-4903-N-06]

Notice of Submission of Proposed Information Collection to OMB: Application for Healthy Homes and Lead Hazard Control Programs Grant Funding

AGENCY: Office of the Chief Information Officer, HUD.

ACTION: Notice.

SUMMARY: The proposed information collection requirement described below has been submitted to the Office of Management and Budget (OMB) for review, as required by the Paperwork Reduction Act. The Department is soliciting public comments on the subject proposal.

This submission is a request for an extension of the approval to collect information for the applications for Healthy Homes and Lead Hazard Control Program Grant Funding to address and reduce the lead-based paint and other hazards in privately owned housing. Some of the information in the applications has be reformatted in a number of forms.

DATES: Comments Due Date: March 8, 2004.

ADDRESSES: Interested persons are invited to submit comments regarding this proposal. Comments should refer to the proposal by name and OMB approval number (2539-0015) and should be sent to: Melanie Kadlic, OMB Desk Officer, Office of Management and Budget, Room 10235, New Executive Office Building, Washington, DC 20503; fax number (202) 395-6974; e-mail Melanie_Kadlic@omb.eop.gov.

FOR FURTHER INFORMATION CONTACT: Wayne Eddins, Reports Management Officer, AYO, Department of Housing and Urban Development, 451 Seventh Street, SW., Washington, DC 20410; e-mail Wayne_Eddins@HUD.gov; telephone (202) 708-2374. This is not a toll-free number. Copies of the proposed forms and other available documents submitted to OMB may be obtained from Mr. Eddins or on HUD's Web site at http://www5.hud.gov:63001/po/i/icbts/collectionsearch.cfm.

SUPPLEMENTARY INFORMATION: The Department has submitted the proposal for the collection of information, as described below, to OMB for review, as required by the Paperwork Reduction Act (44 U.S.C. chapter 35). The notice lists the following information: (1) The title of the information collection proposal; (2) the office of the agency to collect the information; (3) the OMB approval number, if applicable; (4) the description of the need for the information and its proposed use; (5) the agency form number, if applicable; (6) what members of the public will be affected by the proposal; (7) how frequently information submissions will be required; (8) an estimate of the total number of hours needed to prepare the information submission including number of respondents, frequency of response, and hours of response; (9) whether the proposal is new, an extension, reinstatement, or revision of an information collection requirement; and (10) the name and telephone number of an agency official familiar with the proposal and of the OMB Desk Officer for the Department.

This notice also lists the following information:

Title of Proposal: Application for Healthy Homes and Lead Hazard Control Program Grant Funding.

OMB Approval Number: 2539-0015.

Form Numbers: HUD 96008, HUD 96009, and the standard grant application forms: HUD 96010SF 424, HUD 424B, HUD 424C, HUD 424CBW, HUD 27061, HUD 2880, HUD 2990, HUD 2991, HUD 2993, HUD 2994, SF LLL, SF 1199A, HUD 27054.

Description of the Need for the Information and its Proposed Use: This submission is a request for an extension of the approval to collect information for the applications for Healthy Homes and Lead Hazard Control Program Grant Funding to address and reduce the lead-based paint and other hazards in privately owned housing. Some of the information in the applications has be reformatted in a number of forms.

Respondents: Business or other for-profit, not-for-profit institutions, State, local or tribal government.

Frequency of Submission: Revision of a currently approved collection.

| Number of respondents | Annual responses | × | Hours per response | = | Burden hours
Reporting Burden | 250 | 1.32 |  | 64.48 |  | 21,280

Total Estimated Burden Hours: 21,280.

Status: Revision of a currently approved collection.

Authority: Section 3507 of the Paperwork Reduction Act of 1995, 44 U.S.C. 35, as amended.

Dated: January 30, 2004.
Wayne Eddins,
Departmental Reports Management Officer, Office of the Chief Information Officer.

[FR Doc. 04-2544 Filed 2-5-04; 8:45 am]

BILLING CODE 4210-72-P